DEPARTMENT OF THE INTERIOR

Bureau of Land Management

[LLWYD030000-L12320000-DA0000]

Notice of Intent To Establish a Campground Fee on Public Land in Carbon County, WY

AGENCY: Bureau of Land Management, Interior.

ACTION: Notice of intent.

SUMMARY: The Bureau of Land Management (BLM), Rawlins Field Office, Rawlins, Wyoming, intends to establish an overnight camping fee at Corral Creek Campground within the North Platte River Special Recreation Management Area (SRMA).

DATES: Comments on the proposed fee changes must be received or postmarked by November 28, 2014 and include a legible full name and address. Effective February 25, 2015, the BLM will initiate fee collection at Corral Creek Campground, unless the BLM publishes a Federal Register notice to the contrary. Comments received after the close of the comment period or delivered to an address other than the one listed in this notice may not be considered or included in the administrative record for the proposed fee.

ADDRESSES: Documents may be reviewed at the Rawlins Field Office, 1300 North Third Street, P.O. Box 2407, Rawlins, WY 82301-2407. Written comments may be mailed or delivered to the same address; faxed to 307-328-4224; or emailed to BLM_WY_Corral_Creek@blm.gov with “Corral Creek Fee Proposal” referenced in the subject line.

FOR FURTHER INFORMATION CONTACT: John Russell, Project Manager, at the address above or phone (307) 328-4252. The business plan and information concerning the proposed fee schedule are available at www.blm.gov/wy/st/en/info/NEPA/documents/rfo/n_platte_ramp.html. Persons who use a telecommunications device for the deaf (TDD) may call the Federal Information Relay Service (FIRS) at 1-800-877-8339 to contact John Russell during normal business hours. The FIRS is available 24 hours a day, seven days a week, to leave a message or question with the above individual. You will receive a reply during normal business hours.

SUPPLEMENTARY INFORMATION: The planning area for the 5,060-acre North Platte River Recreation Area Management Plan (Plan) includes parcels of public land within the SRMA boundary from the Prospect Creek confluence to Seminoe Reservoir covering 110 river miles. Approximately 10 percent of the surface area is public land with the remainder predominantly private and State lands. The Corral Creek Campground is within the SRMA approximately 33 miles northeast of the Encampment, Wyoming, and is a popular recreation site for both day-use and overnight visits. The Federal Lands Recreation Enhancement Act (REA), 16 U.S.C. 6801-6814, authorizes the Secretary of the Interior to establish, modify, charge and collect recreation fees at specified categories of Federal recreation lands and waters. The REA also contains specific provisions addressing public involvement when establishing recreation fees. The authority of the Secretary to carry out these provisions expires 11 years after December 8, 2005 (16 U.S.C. 6809 amended). The public involvement provisions of the REA include a requirement that Recreation Resource Advisory Committees or councils be given opportunities to make recommendations regarding the establishment of recreation fees. In Wyoming, the Recreation Action Team (REACT) fulfills the public involvement requirements of the REA. REACT is comprised of State and Federal land management agencies that meet regularly to discuss issues of interest to recreationists in the State. REACT also reviews all fee increase proposals on all State and Federal Government sites in Wyoming. The Corral Creek Campground qualifies as a site where visitors can be charged an Expanded Amenity Fee in accordance with REA criteria at 43 U.S.C. 6802(g)(2). The BLM completed the North Platte River Recreation Area Management Plan and Environmental Assessment Decision Record on September 24, 2013, and fulfilled REA requirements, involved the public, and gathered input on the fee proposal and alternatives.

The Plan addresses the following: (1) Visitor use density; (2) River access issues and the establishment of a new campground; (3) Pursuit of a campground fee and improvements; (4) Special Recreation Permit allocations and limits; and (5) Resource impacts caused by peak visitor use on public lands along the North Platte River. Mitigation and reclamation for approved projects in the Plan have been designed to positively benefit social and environmental conditions. The BLM has already analyzed the potential impacts of implementing a campground fee, and considered necessary mitigations in the North Platte River Recreation Area Management Plan and Environmental Assessment. Therefore, establishment of the campground fee would be an administrative action implementing the Sept. 24, 2013 Decision Record.

In accordance with BLM policy, the Rawlins Field Office has prepared a business plan that explains the fee collection process for the Corral Creek Campground and how the fees would be used. The proposed fee structure includes the implementation of a $10 fee for each overnight stay per campsite at the campground. No fees would be charged for extra vehicles. New fees would be used to supplement the appropriated recreation maintenance and operations budget and diversify funding for watershed restoration, habitat, soils, environmental interpretation/education and other projects which would benefit the Corral Creek Recreation Site. Within the SRMA, the BLM has charged Expanded Amenity fees of $10 for overnight camping per campsite at Bennett Peak and Encampment River campgrounds. A day-use fee is not being charged on BLM-administered recreation sites within the SRMA.

A fee collection station, including envelopes and a fee tube, would be located at the trailhead and day-use parking area adjacent to an existing interpretive kiosk that would display the fee schedule and supplementary rules. The fee receipt must be prominently displayed at each occupied site. Those holding the America the Beautiful—The National Parks and Federal Recreational Lands Pass (i.e., the Interagency Annual Pass, Interagency Senior Pass, Interagency Access Pass and Interagency Volunteer Pass), the National Parks Pass with golden eagle hologram and the Golden Eagle, Golden Age or Golden Access passports would be entitled to a fee reduction. The pass type and number would be required to be written on the fee envelope.

The fee schedule and business plan are available at the Rawlins Field Office. Public comments submitted for this fee proposal, including names and street addresses of respondents, will be available for public review in their entirety after the 90-day comment period closes at the Rawlins Field Office during regular business hours, 7:45 a.m.-4:30 p.m., Monday through Friday, except for holidays.

Before including your address, phone number, email address, or other personal identifying information in your comment, you should be aware that your entire comment—including your personal identifying information—may be made publicly available at any time. While you may ask us in your comment to withhold your personal identifying information from public review, we cannot guarantee that we will be able to do so.

The proposal of an overnight camping fee at Corral Creek Campground was analyzed in the 2013 Plan Environmental Assessment (EA) (DOI-BLM-WY-030-2013-0094-EA). This EA included development of recreational infrastructure to meet current BLM fee site standards and proposed the pursuit of a fee program at Corral Creek Campground.

Authority: 16 U.S.C. 6803(b).

Buddy Green,
Acting State Director, Wyoming.

[FR Doc. 2014-20631 Filed 8-28-14; 8:45 am]

BILLING CODE 4310-22-P